DEPARTMENT OF JUSTICE

Civil Rights Division

[OMB Number 1190-0009]

Agency Information Collection Activities; Proposed eCollection eComments Requested; Extension Without Change of a Currently-Approved Collection, Title II of the Americans With Disabilities Act of 1990/Section 504 of the Rehabilitation Act of 1973 Discrimination Complaint Form

AGENCY: Disability Rights Section, Civil Rights Division, U.S. Department of Justice.

ACTION: 60 Day notice.

SUMMARY: The Department of Justice, Civil Rights Division, Disability Rights Section, is submitting the following information collection request to the Office of Management and Budget (OMB) for review and approval in accordance with the Paperwork Reduction Act of 1995.

DATES: The Department of Justice encourages public comment and will accept input until June 18, 2018.

Comments received after the close of the comment period are disfavored and will be marked “late.” The Department is not required to consider late comments.

FOR FURTHER INFORMATION CONTACT: If you have additional comments, especially on the estimated public burden or associated response time, suggestions, or need a copy of the proposed information collection instrument with instructions or additional information, please contact Rebecca Bond, Chief, U.S. Department of Justice, Civil Rights Division, Disability Rights Section, NYA, 950 Pennsylvania Avenue NW, Washington, DC 20530, DRS.PRA@usdoj.gov, or by telephone at (800) 514-0301 (Voice) or (800) 514-0383 (TTY) (the Division's ADA Information Line). All submissions should reference the eight-digit OMB number for the collection or the title of the collection.

SUPPLEMENTARY INFORMATION: Written comments and suggestions from the public and affected agencies concerning the proposed collection of information are encouraged. Your comments should address one or more of the following four points:

—Evaluate whether the collection of information is necessary for the proper performance of the function of the agency, including whether the information will have practical utility;

—Evaluate the accuracy of the agency's estimate of the burden of the collection of information, including the validity of the methodology and assumptions used;

—Evaluate whether and if so, how, the quality, utility, and clarity of the information to be collected can be enhanced; and

—Minimize the burden of the collection of information on those who are to respond, including through the use of appropriate automated, electronic, mechanical, or other technological collection techniques or other forms of information technology (e.g., permitting electronic submission of responses).

Overview of This Information Collection

1. Type of information collection: Extension of Currently Approved Collection.

2. The Title of the Form/Collection: Title II of the Americans with Disabilities Act/Section 504 of the Rehabilitation Act of 1973 Discrimination Complaint Form.

3. The agency form number and applicable component of the Department sponsoring the collection: The document has no agency form number. The applicable component within the Department of Justice is the Disability Rights Section, Civil Rights Division.

4. Affected public who will be asked to respond, as well as a brief abstract: Primary: Individuals alleging discrimination by public entities based on disability. Under title II of the Americans with Disabilities Act, an individual who believes that he or she has been subjected to discrimination on the basis of disability by a public entity may, by himself or herself or by an authorized representative, file a complaint. The Department of Justice must address the complaint or refer the complaint to the appropriate Federal agency. Any Federal agency that receives a complaint of discrimination on the basis of disability by a public entity must review the complaint to determine whether it has jurisdiction under Section 504. If the agency does not have jurisdiction under Section 504, it must determine whether it is the designated agency responsible for complaints filed against that public entity under title II of the ADA. If the agency does not have jurisdiction under section 504 and is not the designated agency under title II of the ADA, it must refer the complaint to the Department of Justice.

5. An estimate of the total number of respondents and the amount of time estimated for an average respondent to respond: 11,192 respondents per year at 0.75 hours per complaint form.

6. An estimate of the total public burden (in hours) associated with the collection: The estimated annual public burden associated with this collection is 8,394 hours, which is equal to 11,192 respondents * .75 hours.

If additional information is required contact: Melody Braswell, Department Clearance Officer, United States Department of Justice, Justice Management Division, Policy and Planning Staff, Two Constitution Square, 145 N Street NE, 3E.405A, Washington, DC 20530.

Dated: April 12, 2018.
Melody Braswell,
Department Clearance Officer for PRA, U.S. Department of Justice.

[FR Doc. 2018-07979 Filed 4-16-18; 8:45 am]

BILLING CODE 4410-13-P